NUCLEAR REGULATORY COMMISSION

Sunshine Notice

AGENCY HOLDING THE MEETING: Nuclear Regulatory Commission.

DATES: Weeks of January 7, 14, 21, 28, February 4, 11, 2002.

PLACE: Commissioners' Conference Room, 11555 Rockville Pike, Rockville, Maryland.

STATUS: Public and Closed.

MATTERS TO BE CONSIDERED:

Week of January 7, 2002

There are no meetings scheduled for the Week of January 7, 2001.

Week of January 14, 2002—Tentative

Tuesday, January 15, 2002.

9:30 a.m.—Briefing on Status of Nuclear Materials Safety (Public Meeting) (Contact: Claudia Seelig, 301-415-7243)

This meeting will be webcast live at the Web address— www.nrc.gov

Week of January 21, 2002—Tentative

There are no meetings scheduled for the Week of January 21, 2002.

Week of January 28, 2002—Tentative

Tuesday, January 29, 2002

9:30 a.m.—Briefing on Status of Nuclear Reactor Safety (Public Meeting) (Contact: Mike Case, 301-415-1134).

This meeting will be webcast live at the Web address— www.nrc.gov

Wednesday, January 30, 2002

9:25 a.m.—Affirmative Session (Public Meeting) (If needed)

9:30 a.m.—Briefing on Status of the Office of the Chief Information Officer (OCIO) Programs, Performance, and Plans (Public Meeting) (Contact: Jackie Silber, 301-415-7330)

This meeting will be webcast live at the Web address— www.nrc.gov

2:00 p.m.—Discussion of Intragovernmental Issues (Closed—Ex. 1 & 9)

Week of February 4, 2002—Tentative

Wednesday, February 6, 2002

9:25 a.m.—Affirmative Session (Public Meeting) (If needed)

9:30 a.m.—Briefing on Equal Employment Opportunity (EEO) Program (Public Meeting) (Contact: Irene Little, 301-415-7380)

Week of February 11, 2002—Tentative

There are no meetings scheduled for the Week of February 11, 2002.

* The schedule for Commission meetings is subject to change on short notice. To verify the status of meetings call (recording)—(301) 415-1292. Contact person for more information: David Louis Gamberoni (301) 415-1651.

Additional Information: By a vote of 5-0 on December 27 and 28, 2001, the Commission determined pursuant to U.S.C. 552b(e) and § 9.107(a) of the Commission's rules that “Affirmation of (a) Private Fuel Storage (Independent Spent Fuel Storage Installation) ” Docket No. 72-22-ISFSI; Petition to Suspend Proceedings in Response to Terrorist Attacks; (b) Duke Energy Corp. (McGuire Nuclear Station, United 1 & 2; Catawba Nuclear Station, Units 1 & 2); Blue Ridge Environmental Defense League's (“BREDL's”) Petition to Dismiss Licensing Proceeding or, in the Alternative, Hold it in Abeyance (Oct. 23, 2001); and (c) Duke Cogema Stone & Webster (Savannah River Mixed Oxide Fuel Fabrication Facility); Georgians Against Nuclear Energy & Nuclear Control Institute's Petition to Suspend Construction Authorization Proceeding for Proposed Plutonium Fuel (MOX) Fab Facility,” be held on December 28, 2001, and no less than one week's notice to the public.

The NRC Commission Meeting Schedule can be found on the Internet at: www.nrc.gov

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 3, 2002.
David Louis Gamberoni,
Technical Coordinator, Office of the Secretary.

[FR Doc. 02-405 Filed 1-3-02; 11:41 am]

BILLING CODE 7590-01-M